STATE JUSTICE INSTITUTE

Board of Directors Meeting, Notice

AGENCY: State Justice Institute.

ACTION: Notice of meeting.

SUMMARY: The SJI Board of Directors will be meeting on Monday, December 7, 2020 at 3:00 p.m. ET. The purpose of this meeting is to consider grant applications for the 1st quarter of FY 2021, and other business.

FOR FURTHER INFORMATION CONTACT: Jonathan Mattiello, Executive Director, State Justice Institute, 11951 Freedom Drive, Suite 1020, Reston, VA 20190, (571) 313-8843, contact@sji.gov.

Authority: Section 204(j) of the SJI Authorization Act (42 U.S.C. 10703 et seq.), 5 U.S.C. Section 552b.

Jonathan D. Mattiello,
Executive Director.

[FR Doc. 2020-26635 Filed 12-3-20; 8:45 am]

BILLING CODE P